DEPARTMENT OF ENERGY

Federal Energy Regulatory Commission

[Project No. 2246-046]

Yuba County Water Agency; Notice of Application Accepted for Filing, Soliciting Comments, Motions To Intervene, and Protests

Take notice that the following hydroelectric application has been filed with the Commission and is available for public inspection:

a. Types of Application: Amend license to re-develop recreation area.

b. Project No.: 2246-046.

c. Date Filed: September 6, 2016.

d. Applicants: Yuba County Water Agency.

e. Name of Projects: Yuba River Development Project.

f. Location: New Bullards Bar Reservoir, Yuba County, California.

g. Filed Pursuant to: 18 CFR 4.200.

h. Applicant Contact: Mr. Curt Aikens, Yuba County Water Agency, 1220 F St., Marysville, CA 95901-4226, (530) 741-6278.

i. FERC Contact: David Rudisail, (202) 502-6376, david.rudisail@ferc.gov.

j. Deadline for filing comments, motions to intervene, protests, and recommendations is 30 days from the issuance date of this notice by the Commission. The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. Please include the project number (P-2246-046) on any comments, motions to intervene, protests, or recommendations filed.

k. Description of Request: Yuba County Water Agency proposes to re-develop the Cottage Creek Picnic Area which was destroyed by fire in August 2010. The new Cottage Creek Group Campground would remain within the construction footprint of the previous development and would be constructed in two phases. Only phase one is subject to approval at this time. Phase one would be completed within 1.5 years of approval and would be authorized under the existing license. Phase one would include: (1) Five double campsites with each consisting of a paved vehicle spur with two single vehicle spaces and two recreational vehicle camping spaces and a living space with one group-sized fire ring, two bear resistant food lockers, two picnic tables and two tent pads; (2) a host campsite with a paved vehicle spur and a septic hook-up with a holding tank; (3) a potable water system consisting of water hydrants within the campground and an underground distribution system that would connect to the existing recreation water system; (4) a two-unit vault restroom building; (5) a paved circulation road with vehicle barriers; (6) a multi-panel information sign; (7) a paved overflow parking area for nine single vehicles; and (8) trash facilities, including a dumpster and individual receptacles.

l. Locations of the Application: A copy of the application is available for inspection and reproduction at the Commission's Public Reference Room, located at 888 First Street NE., Room 2A, Washington, DC 20426, or by calling (202) 502-8371. This filing may also be viewed on the Commission's Web site at http://www.ferc.gov/docs-filing/efiling.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE”, as applicable; (2) set forth in the heading the name of the applicant and the project number of the application to which the filing responds; (3) furnish the name, address, and telephone number of the person protesting or intervening; and (4) otherwise comply with the requirements of 18 CFR 385.2001 through 385.2005. All comments, motions to intervene or protests must set forth their evidentiary basis and otherwise comply with the requirements of 18 CFR 4.34(b). All comments, motions to intervene or protests should relate to project works which are the subject of the license proposed re-development. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: November 3, 2016.
Nathaniel J. Davis, Sr.,
Deputy Secretary.

[FR Doc. 2016-27069 Filed 11-8-16; 8:45 am]

BILLING CODE 6717-01-P